DEPARTMENT OF TRANSPORTATION

Pipeline and Hazardous Materials Safety Administration

[Docket No. RSPA-04-18817; Notice 2]

Pipeline Safety: Grant of Waiver; Tractebel Power, Inc.

AGENCY: Pipeline and Hazardous Materials Safety Administration (PHMSA), DOT.

ACTION: Notice; grant of waiver.

SUMMARY: The Pipeline and Hazardous Materials Safety Administration's (PHMSA), formerly the Research and Special Programs Administration (RSPA), Office of Pipeline Safety (OPS) is granting Tractebel Power, Inc.'s (TPI) petition for a waiver of the pipeline safety regulations to employ a 1.0 longitudinal joint factor (LJF) for austenitic stainless steel pipe in its Tractebel Calypso Pipeline (TCP) project.

SUPPLEMENTARY INFORMATION:

Background

TPI petitioned RSPA/OPS for a waiver from compliance with the gas pipeline safety regulations at 49 CFR 192.113 to allow it to employ a 1.0 longitudinal joint factor (LJF) for austenitic stainless steel pipe. TPI requested the waiver because it intends to install a 96 mile, 24-inch diameter, X65 steel, standard API 5L compliant interstate natural gas pipeline. The pipeline will extend from its liquefied natural gas (LNG) receiving and re-gasification terminal in Freeport, Grand Bahamas Island, to an onshore location in Broward County, FL. TPI intends to construct a portion of this pipeline through a U.S. Navy exclusion zone offshore of Port Everglades, in Broward County, FL. As a condition of the pipeline traversing the exclusion zone, the U.S. Navy stipulated that approximately 14,000 feet of the pipeline be constructed of a low magnetic permeability steel material to prevent electromagnetic interference with U.S. Navy operations. Therefore, TPI is proposing to use a 1.0 LJF and install austenitic stainless steel pipe to satisfy the U.S. Navy requirement. TPI also intends to use mechanical joints to isolate the carbon steel from the austenitic stainless steel pipeline and will use fusion bond epoxy abrasion coating material to minimize coating disbondment. TPI gave the following reasons for selecting austenitic stainless steel pipe and the use of a 1.0 LJF:

• The pipeline meets the requirements of the U.S. Navy and is a low magnetic permeability pipe material;

• The pipeline is manufactured to the American Society for Testing and Materials (ASTM) standards ASTM A 358 and A 999;

• The plate material is manufactured to comply with standards ASTM A 240 and Unified Numbering System S31254;

• The selected material is compatible with the bending properties and the test criteria in Appendix B of 49 CFR part 192;

• The selected material is compatible with the weldability testing and inspection criteria required by Appendix B of 49 CFR part 192; and

• The selected material is consistent with prior practice of the American Society of Mechanical Engineers (ASME) standard ASME B31.8 to allow a LJF of 1.0 when the longitudinal seam has been subjected to 100 percent X-ray.

On September 17, 2004, RSPA/OPS published a notice in the Federal Register requesting public comment on TPI's waiver request (69 FR 056113). No comments were received in response to the Notice.

Findings and Grant of Waiver

For the reasons explained above and in Notice 1, PHMSA/OPS finds that the requested waiver is consistent with pipeline safety. Therefore, TPI's request for waiver of compliance with 49 CFR 192.113 is granted on the condition that TPI conducts the following activities:

• TPI must X-ray 100 percent of the girth welds of this pipeline as part of the procurement specification to comply with the requirements of Appendix B to Part 192—Qualification of Pipe, Section II (B) Weldability;

• TPI must purchase ASTM A 358, class 1 pipe and radiograph 100 percent of the longitudinal joint;

• TPI must employ qualified welding procedures specifically designed to address the material characteristics of austenitic stainless steel pipe;

• TPI must consider and address any special testing requirements unique to the material characteristics of austenitic stainless steel pipe;

• TPI must provide PHMSA/OPS—Southern Region the opportunity to review its overall project design package prior to and during the construction of this pipeline. The design package must include TPI's methodology to validate the calibration of the in-line inspection (ILI) tool that TPI intends to use when performing an inspection of its austenitic stainless steel pipeline. The design package must also include a description of the ILI tool. The ILI tool must be capable of detecting anomalies including—but not limited to—mechanical damage and pipe deformation; and

• TPI must exceed the tensile testing requirements of Appendix B to Part 192, Qualification of Pipe, Section II (D) Tensile Properties—which requires one test per 10 lengths of pipe—and perform one tensile test per five lengths of pipe for both the plate and the welded joint per the tensile testing required under ASTM A 358 (Section 12).

Authority: 49 U.S.C. 60118(c) and 49 CFR 1.53.

Issued in Washington, DC on April 15, 2005.
Theodore L. Willke,
Deputy Associate Administrator for Pipeline Safety.

[FR Doc. 05-8011 Filed 4-20-05; 8:45 am]

BILLING CODE 4910-60-P